DEPARTMENT OF LABOR

Occupational Safety and Health Administration

[Docket No. ICR-1218-0231(2004)]

Material Hoists, Personnel Hoists, and Elevators; Extension of the Office of Management and Budget's (OMB) Approval of Information Collection (Paperwork) Requirements

AGENCY: Occupational Safety and Health Administration (OSHA), Labor.

ACTION: Request for comment.

SUMMARY: OSHA submits comments concerning its proposal to extend OMB approval of the information collection requirements contained in the Material Hoists, Personnel Hoists, and Elevators Standard CFR 1926.552). The Standard is designed to protect employees who operate and work around personnel hoists.

DATES: Comments must be submitted by the following dates:

Hard Copy: Your comments must be submitted (postmarked or received) by May 3, 2004.

Facsimile and electronic: Your comments must be submitted (postmarked or received) by May 3, 2004.

ADDRESSES:

I. Submission of Comments

Regular mail, express delivery, hand-delivery, and messenger service: Submit your comments and attachments to the OSHA Docket Office, Docket No. ICR-1218-0231(2004), Room N-2625, OSHA, U.S. Department of Labor, 200 Constitution Avenue, NW., Washington, DC 20210. OSHA Docket Office and Department of Labor hours of operation are 8:15 a.m. to 4:45 p.m., EST.

Facsimile: If your comments, including any attachments, are 10 pages or fewer, you may fax them to the OSHA Docket Office at (202) 693-1648. You must include the docket number of this document, Docket No. ICR 1218-0231(2004), in your comments.

Electronic: You may submit comments, but not attachments, through the internet at: http://ecomments.osha.gov/.

II. Obtaining Copies of Supporting Statement for the Information Collection

The Supporting Statement for the Information Collection is available for downloading from OSHA's Web site at http://www.osha.gov. The supporting statement is available for inspection and copying in the OSHA Docket Office, at the address listed above. A printed copy of the supporting statement can be obtained by contacting Theda Kenney at (202) 693-2222.

FOR FURTHER INFORMATION CONTACT: Noah Connell, Directorate of Construction, OSHA, U.S. Department of Labor, Room N-3467, 200 Constitution Avenue, NW., Washington, DC 20210; telephone: (202) 693-2345.

SUPPLEMENTARY INFORMATION:

I. Submission of Comments on This Notice and Internet Access to Comments and Submissions

You may submit comments in response to this document by (1) hard copy, (2) fax transmission (facsimile), or (3) electronically through the OSHA Web page. Please note you cannot attach materials such as studies or journal articles to electronic comments. If you have additional materials, you must submit three copies of them to the OSHA Docket Office at the address above. The additional materials must clearly identify your electronic comments by name, date, subject and docket number so we can attach them to your comments. Because of security-related problems there may be a significant delay in the receipt of comments by regular mail. Please contact the OSHA Docket Office at (202) 693-2350 for information about security procedures concerning the delivery of material by express delivery, hand delivery and messenger service.

II. Background

The Department of Labor, as part of its continuing effort to reduce paperwork and respondent (i.e., employer) burden, conducts a preclearance consultation program to provide the public with an opportunity to comment on proposed and continuing information collection requirements in accordance with the Paperwork Reduction Act of 1995 (PRA-95)(44 U.S.C. 3506(c)(2)(A)). This program ensures that information is in the desired format, reporting burden (time and cost) is minimal, collection instruments are clearly understood, and OSHA's estimate of the information collection burden is correct.

Posting Requirements

Paragraph (a)(2) requires that the rated load capacities, recommended operating speeds, and special hazard warnings or instructions be posted on cars and platforms.

Paragraph (b)(1)(i) requires that operating rules for material hoists be established and posted at the operators station of the hoist. These rules shall include signal system and allowable line speed for various loads.

Paragraph (c)(10) requires that cars be provided with a capacity and data plate secured in a conspicuous place on the car or crosshead.

These posting requirements are used by the operator and crew of the material and personnel hoists to determine how to use the specific machine and how much it will be able to lift as assembled in one or a number of particular configurations. If not properly used, the machine would be subject to failures, endangering the employees in the immediate vicinity.

Test and Inspection and Certification Records

Paragraph (c)(15) requires that a test and inspection of all functions and safety devices be made following assembly and erection of hoists. The test and inspection are to be conducted under the supervision of a competent person. A similar inspection and test is required following major alteration of an existing installation. All hoists shall be inspected and tested at three month intervals. A certification record (the most recent) of the test and inspection is required to be kept on file, including the date the test and inspection was completed, the identification of the equipment and the signature of the person who performed the test and inspection. This certification ensures that the equipment has been tested and is in safe operating condition.

Disclosure of Test and Inspection Certification Records

The most recent certification record will be disclosed to a CSHO during an OSHA inspection.

III. Special Issues for Comment

OSHA has a particular interest in comments on the following issues:

• Whether the proposed information collection requirements are necessary for the proper performance of the Agency's functions to protect workers, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

IV. Proposed Actions

OSHA is proposing to extend the information collection requirements in the Material Hoists, Personnel Hoists, and Elevators Standard (29 CFR 1926.552).

OSHA will summarize the comments submitted in response to this notice, and will include this summary in the request to OMB to extend the approval of the information collection requirement contained in the Material Hoists, Personnel Hoists, and Elevators Standard (29 CFR 1926.552).

Type of Review: Extension of a currently-approved information collection requirement.

Title: Material Hoists, Personnel Hoists, and Elevators.

OMB Number: 1218-0231.

Affected Public: Business or other for-profit organizations; not-for-profit institutions; Federal government; State, local or tribal governments.

Number of Respondents: 26,547.

Frequency of Response: On occasion; quarterly.

Total Responses: 143,727.

Average Time per Response: Varies from 2 minutes (.03 hour) for a supervisor to disclose test and inspection certification records to 30 minutes (.50 hour) for a construction worker to obtain and post information for hoists.

Estimated Total Burden Hours: 30,282.

IV. Authority and Signature

John L. Henshaw, Assistant Secretary of Labor for Occupational Safety and Health, directed the preparation of this notice. The authority for this notice is the Paperwork Reduction Act of 1995 (44 U.S.C. 3506) and Secretary of Labor's Order No. 5-2002 (67 FR 65008).

Signed at Washington, DC, on February 26, 2004.
John L. Henshaw,
Assistant Secretary of Labor.

[FR Doc. 04-4596 Filed 3-1-04; 8:45 am]

BILLING CODE 4510-26-M